DEPARTMENT OF THE INTERIOR

National Park Service

Advisory Commission Meeting

AGENCY: National Park Service, Jimmy Carter National Historic Site.

ACTION: Notice of Advisory Commission Meeting.

SUMMARY: Notice is hereby given in accordance with the Federal Advisory Commission Act, 5 U.S.C. App. 1, section 10(a)(2), that a meeting of the Jimmy Carter National Historic Site Advisory Commission will be held on February 4, 2005, from 8:30 a.m. to 3 p.m. This notice lacks the customary 15-day public notification period due to conflicts with President Carter's schedule.

DATES: February 4, 2005.

Location: The Plains High School, Jimmy Carter National Historic Site, 300 North Bond Street, Plains, Georgia 31780.

FOR FURTHER INFORMATION CONTACT: Mr. Fred Boyles, Superintendent, Jimmy Carter National Historic Site, 496 Cemetery Road, Andersonville, Georgia 31711, (229) 924-0343, extension 105.

SUPPLEMENTARY INFORMATION: The purpose of the Jimmy Carter National Historic Site Advisory Commission is to advise the Secretary of the Interior or his designee on achieving balanced and accurate interpretation of the Jimmy Carter National Historic Site. The members of the Advisory Commission are as follows: Dr. James Sterling Young, Dr. Barbara J. Fields, Dr. Donald B. Schewe, Dr. Steven H. Hochman, Dr. Jay Hakes, Director, National Park Service, Ex-Officio member.

The matters to be discussed at this meeting include the status of park development and planning activities. This meeting will be open to the public. However, facilities and space for accommodating members of the public are limited. Any member of the public may file with the commission a written statement concerning the matters to be discussed. Written statements may also be submitted to the Superintendent at the address above. Minutes of the meeting will be available at Park Headquarters for public inspection approximately four weeks after the meeting.

Our practice is to make comments, including names and home addresses of respondents, available for public review during regular business hours. Individual respondents may request that we withhold their home address from the rulemaking record, which we will honor to the extent allowable by law. There also may be circumstances in which we would withhold from the rulemaking record a respondent's identity, as allowable by law. If you wish for us to withhold your name and/or address, you must state this prominently at the beginning of your comments. We will make all submissions from organizations or businesses, and from individuals identifying themselves as representatives or officials of organizations or businesses, available for public inspection in their entirety.

Dated: January 25, 2005.
Wallace A. Hibbard,
Deputy Regional Director, Southeast Region.

[FR Doc. 05-1877 Filed 2-1-05; 8:45 am]

BILLING CODE 4312-74-P